DEPARTMENT OF DEFENSE

Office of the Secretary

[Docket ID DOD-2011-OS-0041]

Privacy Act of 1974; Systems of Records

AGENCY: Defense Logistics Agency, DoD.

ACTION: Notice to Alter a System of Records.

SUMMARY: The Defense Logistics Agency proposes to alter a system of records notice in its existing inventory of records systems subject to the Privacy Act of 1974, (5 U.S.C. 552a), as amended.

DATES: This proposed action will be effective without further notice on May 12, 2011 unless comments are received which result in a contrary determination.

ADDRESSES: You may submit comments, identified by docket number and/Regulatory Information Number (RIN) and title, by any of the following methods:

* Federal Rulemaking Portal: http://www.regulations.gov. Follow the instructions for submitting comments.

* Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Jody Sinkler at (703) 767-5045, or Privacy Act Officer, Headquarters, Defense Logistics Agency, Attn: DGA, 8725 John J. Kingman Road, Stop 16443, Fort Belvoir, VA 22060-6221.

SUPPLEMENTARY INFORMATION: The Defense Logistics Agency systems of records notices subject to the Privacy Act of 1974, (5 U.S.C. 552a), as amended, have been published in the Federal Register and are available from the FOR FURTHER INFORMATION CONTACT address above.

The proposed system reports, as required by 5 U.S.C. 552a (r), of the Privacy Act of 1974, as amended, were submitted on April 6, 2011, to the House Committee on Oversight and Government Reform, the Senate Committee on Homeland Security and Governmental Affairs, and the Office of Management and Budget (OMB) pursuant to paragraph 4c of Appendix I to OMB Circular No. A-130, `Federal Agency Responsibilities for Maintaining Records About Individuals,' dated February 8, 1996 (February 20, 1996, 61 FR 6427).

Dated: April 7, 2011.
Morgan F. Park,
Alternate OSD Federal Register Liaison Officer, Department of Defense

S800.20

System name:

Military Clothing Database (January 31, 2008, 73 FR 5826).

Changes:

* * * * *

System location:

Delete entry and replace with “Data regarding recruits is located at participating Recruit Induction/Training Centers. Please contact the System Manager for more information.”

Categories of individuals covered by the system:

Delete entry and replace with “Recruits being inducted at participating Recruit Induction/Training Centers (the Department of the Army, the Department of the Air Force, the U.S. Marine Corps, and the Department of the Navy). These include recruits with special measurement clothing requirements.”

Categories of records in the system:

Delete entry and replace with “Individual's name, Social Security Number (SSN), gender, rank, Military Occupational Specialty, duty station, roster ID, Platoon/Company assigned, records of receipts, sales, exchanges, replacements, and returns of individual clothing items, uniform sizes, quantities of clothing items ordered by individuals and branch of military service cost center data which reflects the funding citation that represents which military service is responsible for the individual recruit's clothing bag costs.”

Authority for maintenance of the system:

Delete entry and replace with “10 U.S.C. 136, Under Secretary of Defense for Personnel and Readiness; DoD Directive 1338.5, Armed Forces Clothing Monetary Allowance Policy; and E.O. 9397 (SSN), as amended.”

Purpose(s):

Delete entry and replace with “To establish a database for the purpose of managing military recruit clothing inventories to forecast future clothing needs; to reduce costs and lead times; and to improve the efficiency of clothing distribution for the participating military services. Records are also used to record receipts, sales, exchanges, replacements, and returns of individual clothing items by the recruit.”

* * * * *

Retention and disposal:

Delete entry and replace with “Database/Master—maintain for 3 years, followed by 2 years in archive, and then destroy.

Input/source records—destroy after 1 year.

Outputs—

a. Hard copies—destroy after 1 year.

b. Source data (electronic) maintain for 3 years online, followed by 2 years in archive, then destroy.

System Documentation—maintain current version and two prior versions for 5 years, then destroy.”

System manager(s) and address:

Delete entry and replace with “Chief, Process Integration Branch, DLA Information Operations, Philadelphia, 700 Robbins Avenue, Philadelphia, PA 19111-5062.”

Notification procedure:

Delete entry and replace with “Individuals seeking to determine whether information about themselves is contained in this system of records should address written inquiries to the Privacy Office, DLA Troop Support, Attn: BPCA, 700 Robbins Avenue, Building 36, Philadelphia, PA 19111-5096.

Written requests must contain the individual's full name, and the Recruit Induction/Training Centers where inducted/trained. Please contact the System Manager for more information.”

Record access procedures:

Delete entry and replace with “Individuals seeking access to information about themselves contained in this system of records should address written inquiries to the Privacy Office, DLA Troop Support, Attn: BPCA, 700 Robbins Avenue, Building 36, Philadelphia, PA 19111-5096.

Written requests must contain the individual's full name, and the Recruit Induction/Training Centers where inducted/trained. Please contact the System Manager for more information.”

* * * * *

S800.20

System name:

Military Clothing Database

System location:

Data regarding recruits is located at participating Recruit Induction/Training Centers. Please contact the System Manager for more information

Categories of individuals covered by the system:

Recruits being inducted at participating Recruit Induction/Training Centers (the Department of the Army, the Department of the Air Force, the U.S. Marine Corps, and the Department of the Navy). These include recruits with special measurement clothing requirements.

Categories of records in the system:

Individual's name, Social Security Number (SSN), gender, rank, Military Occupational Specialty, duty station, roster ID, Platoon/Company assigned, records of receipts, sales, exchanges, replacements, and returns of individual clothing items, uniform sizes, quantities of clothing items ordered by individuals and branch of military service cost center data which reflects the funding citation that represents which military service is responsible for the individual recruit's clothing bag costs.

Authority for maintenance of the system:

10 U.S.C. 136, Under Secretary of Defense for Personnel and Readiness; DoD Directive 1338.5, Armed Forces Clothing Monetary Allowance Policy; and E.O. 9397 (SSN), as amended.

Purpose(s):

To establish a database for the purpose of managing military recruit clothing inventories to forecast future clothing needs; to reduce costs and lead times; and to improve the efficiency of clothing distribution for the participating military services. Records are also used to record receipts, sales, exchanges, replacements, and returns of individual clothing items by the recruit.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

Measurement and size information may be disclosed to garment manufacturers for the purpose of producing military clothing in the necessary sizes.

The DoD `Blanket Routine Uses' as set forth at the beginning of the Defense Logistics Agency's compilation of systems of records notices also apply to this system.

Policies and practices for storing, retrieving, accessing, retaining, and disposing of records in the system:

Storage:

Records are maintained on paper and electronic storage media.

Retrievability:

Individual's name and/or Social Security Number (SSN).

Safeguards:

Records are maintained in secure, limited access, or monitored areas. Database is monitored and access is password protected. Physical entry by unauthorized persons is restricted through the use of locks, guards, passwords, or other administrative procedures. Archived data is stored on discs, or magnetic tapes, which are kept in a locked or controlled access area. Access to personal information is limited to those individuals who require the records to perform their official assigned duties.

Retention and disposal:

Database/Master—maintain for 3 years, followed by 2 years in archive, and then destroy.

Input/source records—destroy after 1 year.

Outputs—

a. Hard copies—destroy after 1 year.

b. Source data (electronic) maintain for 3 years online, followed by 2 years in archive, then destroy.

System Documentation—maintain current version and two prior versions for 5 years, then destroy.

System manager(s) and address:

Chief, Process Integration Branch, DLA Information Operations, Philadelphia, 700 Robbins Avenue, Philadelphia, PA 19111-5062.

Notification procedure:

Individuals seeking to determine whether information about themselves is contained in this system of records should address written inquiries to the Privacy Office, DLA Troop Support, Attn: BPCA, 700 Robbins Avenue, Building 36, Philadelphia, PA 19111-5096.

Written requests must contain the individual's full name, and the Recruit Induction/Training Centers where inducted/trained. Please contact the System Manager for more information.

Record access procedures:

Individuals seeking access to information about themselves contained in this system of records should address written inquiries to the Privacy Office, DLA Troop Support, Attn: BPCA, 700 Robbins Avenue, Building 36, Philadelphia, PA 19111-5096.

Written requests must contain the individual's full name, and the Recruit Induction/Training Centers where inducted/trained. Please contact the System Manager for more information.

Contesting record procedures:

The DLA rules for accessing records for contesting contents and appealing initial agency determinations are contained in 32 CFR part 323, or may be obtained from the DLA FOIA/Privacy Act Office, Headquarters, Defense Logistics Agency, Attn: DGA, 8725 John J. Kingman Road, Suite 1644, Fort Belvoir, VA 22060-6221.

Record source categories:

Information is provided by the recruits being inducted at the participating Recruit Induction/Training Centers and their affiliated Military Service.

Exemptions claimed for the system:

None.

[FR Doc. 2011-8640 Filed 4-11-11; 8:45 am]

BILLING CODE 5001-06-P